DEPARTMENT OF THE TREASURY

Submission for OMB Review; Comment Request

June 8, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 16, 2001 to be assured of consideration.

Internal Revenue Service (IRS)

OMB Number: 1545-0035.

Form Number: IRS Forms 943, 943-PR, 943-A and 943A-PR.

Type of Review: Revision.

Title: Employer's Annual Tax Return for Agricultural Employees (943); Planilla Para La Declaracion Anual De La Contribucion Del Patrono De Empleados Agricolas (943-PR); Agricultural Employer's Record of Federal Tax Liability (943-A); and Registro De La Obligacion Contributiva Del Patrono Agricola (943A-PR).

Description: Agricultural employers must prepare and file Form 943 and Form 943-PR (Puerto Rico only) to report and pay FICA taxes and (943 only) income tax voluntarily withheld. Agricultural empoyers may attach Forms 943-A and 943A-PR to Forms 943 and 943-PR to show their tax liabilities for semiweekly periods. The information is used to verify that the correct tax has been paid.

Respondents: Business or other for-profit.

Estimated Number of Respondents/Recordkeepers: 392,443.

Estimated Burden Hours Per Respondent/Recordkeeper:

Form | Recordkeeping | Learning about the law or the form | Preparing the form | Copying, assembling, and sending the form to the IRS
943 | 10 hr., 3 min | 40 min | 1 hr., 47 min | 16 min
943-PR | 8 hr., 51 min | 40 min | 1 hr., 46 min | 16 min
943-A | 8 hr., 22 min |  | 8 min |
943A-PR | 8 hr., 22 min |  | 8 min |

Frequency of Response: Annually.

Estimated Total Reporting/Recordkeeping Burden: 5,011,539 hours.

Clearance Officer: Garrick Shear, Internal Revenue Service, Room 5244, 1111 Constitution Avenue, NW, Washington, DC 20224.

OMB Reviewer: Alexander T. Hunt, (202), 395-7860, Office of Management and Budget, Room 10202, New Executive Office Building, Washington, DC 20503.

Mary A. Able,
Departmental Reports, Management Officer.

[FR Doc. 01-15087 Filed 6-14-01; 8:45 am]

BILLING CODE 4830-01-P